ENVIRONMENTAL PROTECTION AGENCY

[FRL-7858-2]

Science Advisory Board Staff Office; Notification of Advisory Meeting of the Science Advisory Board Illegal Competitive Advantage Economic Benefit Advisory Panel

AGENCY: Environmental Protection Agency (EPA).

ACTION: Notice.

SUMMARY: The Science Advisory Board (SAB) Illegal Competitive Advantage (ICA) Economic Benefit (EB) Advisory Panel will hold a public teleconference to finalize its draft advisory report to the Agency on economic methods related to assessing economic benefits attributed to non-compliance with EPA regulations.

DATES: January 19, 2005. The SAB ICA EB Advisory Panel will meet on January 19, 2005, via teleconference from 10 a.m. to 12 p.m. (noon) (Eastern Standard Time).

ADDRESSES: The public teleconference will take place via teleconference only.

FOR FURTHER INFORMATION CONTACT: Any member of the public who wishes to obtain the teleconference call-in numbers and access codes, would like to submit written or brief oral comments (3 minutes or less), or who wants further information concerning this public teleconference meeting should contact Dr. Jack Kooyoomjian, Designated Federal Officer (DFO), EPA SAB, 1200 Pennsylvania Avenue, NW., (MC 1400F), Washington, DC 20460; via telephone/voice mail: (202) 343-9984; fax: (202) 233-0643; or e-mail at: kooyoomjian.jack@epa.gov. General information concerning the SAB can be found on the EPA Web site at: http://www.epa.gov/sab.

SUPPLEMENTARY INFORMATION: Background: Pursuant to the Federal Advisory Committee Act, Public Law 92-463, the SAB Staff Office hereby gives notice of a public teleconference of the SAB ICA EB Advisory Panel. The Panel has conducted three public teleconference calls and a public meeting to provide advice regarding EPA's Office of Enforcement and Compliance Assurance (OECA) White Paper entitled, “Identifying and Calculating Economic Benefit That Goes Beyond Avoided and/or Delayed Costs.” These public meetings were noticed in the Federal Register, 69 FR 35599 (June 25, 2004), and 69 FR 60996 (October 14, 2004).

Purpose: The purpose of this public teleconference is to finalize the draft advisory report.

Availability of Meeting Materials: Copies of the agenda for the public teleconference described in this notice and the SAB draft advisory report will be posted on the SAB Web site at: http://www.epa.gov/sab/agendas.htm prior to the teleconference.

Providing Oral or Written Comments at SAB Meetings: It is the policy of the SAB Staff Office to accept written public comments of any length, and to accommodate oral public comments wherever possible. The SAB Staff Office expects the public statements presented at its meetings will not be repetitive of previously-submitted oral or written statements. Oral Comments: In general, each individual or group requesting an oral presentation at a public teleconference meeting will be limited to a total time of three minutes (unless otherwise indicated). Requests to provide oral comments must be in writing (e-mail, fax, or mail) and received by the DFO no later than noon Eastern Time five business days prior to the meeting in order to reserve time on the meeting agenda. Written Comments: Although the SAB Staff Office accepts written comments until the date of the meeting (unless otherwise stated), written comments should be received in the SAB Staff Office no later than noon Eastern Time five business days prior to the meeting so that the comments may be made available to the Panelists for their consideration. Comments should be supplied to the DFO (preferably by e-mail) at the address/contact information noted above in the following formats: one hard copy with original signature, and one electronic copy via e-mail (acceptable file format: Adobe Acrobat PDF, WordPerfect, Word, or Rich Text files (in IBM-PC/Windows 98/2000/XP format)).

Meeting Access: This is a meeting by teleconference. Individuals requiring special accommodation for this meeting should contact the DFO at least five business days prior to the meeting, so that appropriate arrangements can be made.

Dated: December 22, 2004.
Anthony Maciorowski,
Acting Director, EPA Science Advisory Board Staff Office.

[FR Doc. 05-266 Filed 1-5-05; 8:45 am]

BILLING CODE 6560-50-P